FEDERAL ACCOUNTING STANDARDS ADVISORY BOARD

Notice of Deadline Extension for Applications To Serve as Non-Federal Members of the Federal Accounting Standards Advisory Board

AGENCY: Federal Accounting Standards Advisory Board.

ACTION: Notice.

SUMMARY: Notice is hereby given that the Federal Accounting Standards Advisory Board (FASAB) is currently seeking candidates (candidates must not currently be Federal employees) to serve as non-Federal members of FASAB. The application deadline has been extended to November 30, 2024. Two new members will be selected to serve five-year terms beginning January 1, 2026, after the terms of two current non-Federal Board members end.

DATES: Please submit your resume by November 30, 2024, to be considered for the positions.

ADDRESSES: Responses may be sent to fasab@fasab.gov or Ms. Monica R. Valentine, Executive Director, 441 G Street NW, Suite 1155, Washington, DC 20548.

FOR FURTHER INFORMATION CONTACT: Ms. Monica R. Valentine, Executive Director, 441 G Street NW, Suite 1155, Washington, DC 20548, or call (202) 512-7350.

SUPPLEMENTARY INFORMATION: FASAB is the body designated to establish generally accepted accounting principles for Federal Government entities. Generally, non-Federal Board members are selected from the general financial community, the accounting and auditing community, or the academic community.

FASAB's current chair will complete his ten-year tenure on the Board on December 31, 2025. As such, FASAB is also seeking nominations for a new chair who will start on January 1, 2026. The chair may be chosen from existing non-federal Board members or from incoming members. After carefully considering the additional responsibilities of the chair, please indicate in your application if you would like to be considered for this position.

The Board generally meets for two days every other month in Washington, DC, except for its December and February meetings, which are virtual. Members are compensated for 24 days per year based on current Federal executive salaries. Travel expenses are reimbursed in accordance with Federal travel regulations.

Authority: 31 U.S.C. 3511(d); Federal Advisory Committee Act, 5 U.S.C. 1001-1014.

Dated: October 24, 2024.
Monica R. Valentine,
Executive Director.

[FR Doc. 2024-25160 Filed 10-29-24; 8:45 am]

BILLING CODE 1610-02-P